DEPARTMENT OF LABOR

Employment and Training Administration

[TA-W-39,628]

Henderson Sewing Machine Company, Inc. Andalusia, Georgia; Notice of Negative Determination on Remand

The United States Court of International Trade (USCIT) granted the Secretary of Labor's motion for a voluntary remand for further investigation in Former Employees of Henderson Sewing Machine Company, Inc. v. United States Secretary of Labor, No 01-00883.

The Department's initial negative determination of eligibility to apply for trade adjustment assistance (TAA) for the workers and former workers of Henderson Sewing Machine Company located in Andalusia, Georgia was issued on August 29, 2001 and published in the Federal Register on September 11, 2001 (66 FR 47241). The denial was based the fact that workers of the subject firm did not produce an article within the meaning of Section 223(3) of the Trade Act of 1974.

On voluntary remand, the Department conducted further investigation concerning the eligibility of former workers at Henderson Sewing Company, Inc., Andalusia, Georgia to apply for trade adjustment assistance (TAA).

The results of the investigation on remand revealed that during the relevant period, the company laid off a total of two administrative workers. Another five workers left on their own accord, due to various personal reasons. None of these workers were engaged in the manufacture of any product while employed at the subject facility.

Further, the overwhelming portion of the activities performed at the subject facility relates to the sales of industrial sewing machines and related parts. The company also produces components that attach to the sewing machine (value added) before they are sold. The company indicated that this is a negligible portion of the total functions performed at the subject facility.

Conclusion

After careful consideration of the results of the remand investigation, I affirm the original notice of negative determination of eligibility to apply for trade adjustment assistance for workers and former workers of Henderson Sewing Machine Company, Inc., Andalusia, Georgia.

Signed at Washington, DC this 6th day of February 2002.
Linda G. Poole,
Certifying Officer, Division of Trade Adjustment Assistance.

[FR Doc. 02-9344 Filed 4-16-02; 8:45 am]

BILLING CODE 4510-30-M